DEPARTMENT OF THE INTERIOR

National Park Service

[NPS-WASO-NAGPRA-22870; PPWOCRADN0-PCU00RP14.R50000]

Notice of Intent To Repatriate Cultural Items: Denver Museum of Nature & Science, Denver, CO

AGENCY: National Park Service, Interior.

ACTION: Notice.

SUMMARY: The Denver Museum of Nature & Science, in consultation with the appropriate Indian tribes or Native Hawaiian organizations, has determined that the cultural items listed in this notice meet the definition of sacred objects. Lineal descendants or representatives of any Indian tribe or Native Hawaiian organization not identified in this notice that wish to claim these cultural items should submit a written request to the Denver Museum of Nature & Science. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Denver Museum of Nature & Science at the address in this notice by April 6, 2017.

ADDRESSES: Chip Colwell, Senior Curator of Anthropology and NAGPRA Officer, Denver Museum of Nature & Science, 2001 Colorado Boulevard, Denver, CO 80205, telephone (303) 370-6378, email Chip.Colwell@dmns.org.

SUPPLEMENTARY INFORMATION: Notice is here given in accordance with the Native American Graves Protection and Repatriation Act (NAGPRA), 25 U.S.C. 3005, of the intent to repatriate cultural items under the control of the Denver Museum of Nature & Science, Denver, CO that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

At an unknown date, six cultural items were removed from multiple unknown locations. In the 1950s, Karen Petersen and her husband Sydney Petersen spent their summers visiting Anishinaabe communities, camping out, and buying crafts from tribal members. When she was able to sell items, she sold them through churches in St. Paul, MN. She also collected Anishinaabe objects for the Science Museum of Minnesota as a staff member from 1958 to 1964. The six cultural items were purchased by Petersen in 1975 from unknown collectors who obtained or purchased them from tribal members at the White Earth Indian Reservation in northwestern Minnesota. The baton (AC.11531) was obtained by an unknown collector from Annie Fineday of the White Earth Indian Reservation in 1941, and, in turn, was obtained by Petersen in 1975. It was purchased by Francis and Mary Crane on February 5, 1976. The Cranes donated the baton to the Denver Museum of Nature & Science (DMNS) in December of 1976. The bird carving (AC.11532) was purchased by an unknown collector from Mrs. John Basswood in Ponsford, which is part of the White Earth Indian Reservation, in 1949. It was obtained by Petersen in 1975 and was purchased by the Cranes on February 5, 1976. The Cranes donated the bird carving to the DMNS in December of 1976. The rattle (AC.11534) was sold to an unknown collector by Jack Saylor at the White Earth Indian Reservation, and, in turn, was purchased by Petersen in 1975, and by the Cranes on February 5, 1976. The Cranes donated the rattle to the DMNS in December of 1976. The medicine bag (AC.11535H) was obtained from Mrs. Moose Jonas from an unknown collector in the 1930s, and, in turn, was obtained by Petersen in 1975. It was purchased by the Cranes on February 5, 1976. The Cranes donated the medicine bag to the DMNS in December of 1976. The second bird figure (AC.11540) was obtained from Annie Fineday by an unknown collector in 1941, and, in turn, was obtained by Petersen in 1975. It was purchased by the Cranes on February 5, 1976. The Cranes donated the bird figure to the DMNS in December of 1976. The Midewiwin Post (AC.11543) was purchased from Mrs. John Basswood in Ponsford in 1949, and, in turn, was obtained by Petersen in 1975. It was purchased by the Cranes on February 5, 1976. The Cranes then donated the Midewiwin Post to the DMNS in December of 1976. The six cultural items are one Midewiwin baton (AC.11531), two Midewiwin bird figures (AC.11532 and AC.11540), one Midewiwin rattle (AC.11534), one Midewiwin medicine bag (AC.11534H), and one Midewiwin post (AC.11534). The cultural items are identified in museum records as being from the White Earth Indian Reservation in northwestern Minnesota. Bird figures and their posts are used to mark Mide lodges and to signify a family or society affiliation. Similarly, rattles, medicine bags, and batons have an integral role in Midewiwin's current ceremonial practices.

Museum accession, catalogue, and documentary records, as well as consultation with representatives of the White Earth Band of the Minnesota Chippewa Tribe, Minnesota, indicate that the six cultural items are Ojibwe and are from the White Earth Indian Reservation, Minnesota. The six cultural items, AC.11531, AC.11532, AC.11534, AC.11535H, AC.11540, and AC.11543, relate to the Grand Medicine Society or Midewiwin, a ritual society.

Determinations Made by the Denver Museum of Nature & Science

Officials of the Denver Museum of Nature & Science have determined that:

• Pursuant to 25 U.S.C. 3001(3)(C), the six cultural items described above are specific ceremonial objects needed by traditional Native American religious leaders for the practice of traditional Native American religions by their present-day adherents.

• Pursuant to 25 U.S.C. 3001(2), there is a relationship of shared group identity that can be reasonably traced between the cultural items and the White Earth Band of the Minnesota Chippewa Tribe, Minnesota.

Additional Requestors and Disposition

Lineal descendants or representatives of any Indian tribe or Native Hawaiian organization not identified in this notice that wish to claim these cultural items should submit a written request with information in support of the claim to Chip Colwell, Senior Curator of Anthropology and NAGPRA Officer, Denver Museum of Nature & Science, 2001 Colorado Boulevard, Denver, CO 80205, telephone (303) 370-6378, email Chip.Colwell@dmns.org by April 6, 2017. After that date, if no additional claimants have come forward, transfer of control of the sacred objects to the White Earth Band of the Minnesota Chippewa Tribe, Minnesota may proceed.

The Denver Museum of Nature & Science is responsible for notifying the White Earth Band of the Minnesota Chippewa Tribe, Minnesota that this notice has been published.

Dated: February 6, 2017.
Melanie O'Brien,
Manager, National NAGPRA Program.

[FR Doc. 2017-04403 Filed 3-6-17; 8:45 am]

BILLING CODE 4312-52-P